ENVIRONMENTAL PROTECTION AGENCY

[ER-FRL-6250-8]

Environmental Impact Statements and Regulations; Availability of EPA Comments

Availability of EPA comments prepared January 17, 2000 Through January 21, 2000 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements(EISs) was published in FR dated April 09, 1999 (63 FR 17856).

Draft EISs

ERP No. D-COE-E32079-SC Rating EO2, Daniel Island Marine Cargo Terminal Development, Permits and Approvals, South Caroline State Ports Authority, (SCSPA), Charleston, Berkeley County, SC.

Summary: EPA expressed environmental objections due to significant indirect and induced impacts related to wetlands, environmental justice, waste treatment, air quality, dredge material disposal and discharge permit issues. EPA requested additional information and mitigation measures.

ERP No. D-COE-E39049-FL Rating EC2, Southwest Florida Improvement to the Regulatory Process for Rapid Growth and Development,Alternatives Development Group (ADG), Lee and Collier Counties, FL.

Summary: EPA expressed environmental concerns about finalizing this regulatory process given its scope/complexity.Additional information about future development trends will need to be evaluated in the context of an improved review process to avoid unacceptable losses to the natural environment.

ERP No. D-FAA-G51015-TX Rating EC2, George Bush Intercontinental Airport Houston,Construction and Operation, Runway 8L-26R and Associated Near Term Master Plan Project,City of Houston, Harris County, TX.

Summary: EPA expressed environmental concerns due to potential noise and air related impacts. The FEIS should clarify and demonstrate air conformity requirements including implication to the State Implementation Plan and mitigation measures should be included in the ROD.

ERP No. D-FHW-E40781-FL Rating EC2, FL-423 (John Young Parking), Improvements from FL-50 to Fl-434, City of Orlando, Orange County,FL.

Summary: EPA expressed environmental concern regarding relocation issues and potential noise impacts. EPA requested additional consideration of residential relocations and noise mitigation. EPA also suggested that the project design provide for future light rail and bike lanes.

ERP No. D-SFW-K99029-CA Rating EC2, San Joaquin County Multi-Species Habitat Conservation and Open Space Plan, Issuance of Incidental Take Permit, San Joaquin County, CA.

Summary: EPA expressed environmental concerns about compliance with EPA's CWA Section 404(b)(1) guidelines. The Final EIS should clearly reflect the requirements to avoid and minimize, to the fullest extent practicable, the discharge of dredged or fill material into waters of the United States.

ERP No. D-USN-E11047-00 Rating EC1, USS Winston S. Churchill (DDG 81), Conducting a Shock Trial, Offshore of Naval Stations,Mayport, FL; Norfolk, VA and/or Pascagoula, MS.

Summary: EPA expressed environmental concerns about the proposed ship shock test, and recommended post-monitoring results be made available to assess mitigation measures.

Final EISs

ERP No. F-COE-G39031-AR Grand Prairie Area Demonstration Project,Implementation, Water Conservation, Groundwater Management and Irrigation Water Supply,Prairie, Arkansas, Monroe and Lonoke Counties, AR.

Summary: EPA continued to express concerns about the project and urged the Corps to conduct a comprehensive, or cumulative impact study of the White River basin in order to gain a better understanding of the interaction of implemented and planned projects.

ERP No. F-FAA-C51019-NY LaGuardia Airport East End Roadway Improvements Project, Four New Ramps at the 102nd Street Bridge Construction, Airport Layout Plan Approval and Funding, Queens County, NY.

Summary: No formal comment letter was sent to the preparing agency.

ERP No. F-USN-K11104-CA Marine Corp Air Station (MCAS) Tustin Disposal and Reuse Plan, Cities of Tustin and Irvine, Orange County, CA.

Summary: No formal comment letter was sent to the preparing agency.

ERP No. FS-UAF-C11011-NY Griffiss Air Force Base (AFB) Disposal and Reuse, Implementation, Oneida County, NY.

Summary: No formal comment letter was sent to the preparing agency.

Dated: February 1, 2000.
B. Katherine Biggs,
Associate Director, NEPA Compliance Division, Office of Federal Activities.

[FR Doc. 00-2594 Filed 2-3-00; 8:45 am]

BILLING CODE 6560-50-P